FEDERAL COMMUNICATIONS COMMISSION

47 CFR Parts 1, 2, 22, 24, 27, 90 and 95

[WT Docket No. 10-4; FCC 11-53]

Improving Wireless Coverage Through the Use of Signal Boosters

AGENCY: Federal Communications Commission.

ACTION: Proposed rule.

SUMMARY: In this document the Federal Communications Commission (Commission) seeks comment on revisions to its rules to help fill gaps in wireless coverage and expand broadband in rural and difficult-to-serve areas, and protect wireless networks from harm. The development and deployment of well-designed signal boosters holds great potential to empower consumers in rural and underserved areas to improve their wireless coverage in their homes, at their jobs, and when they travel by car, recreational vehicle, or boat.

DATES: Submit comments on or before June 24, 2011, and reply comments on or before July 25, 2011. For additional information concerning proposed information collections contained in this document, contact Judith-B.Herman at (202) 418-0214, or via the Internet at Judith.B-Herman@fcc.gov.

ADDRESSES: You may submit comments, identified by WT Docket No. 10-4; FCC 11-53, by any of the following methods:

Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone 202-418-0530 or TTY: 202-418-0432.

For detailed instructions for submitting comments and additional information on the rulemaking process, see the SUPPLEMENTARY INFORMATION section of this document.

FOR FURTHER INFORMATION CONTACT: Joyce Jones, Mobility Division, Wireless Telecommunications Bureau, at (202) 418-1327, or e-mail at joyce.jones@fcc.gov.

SUPPLEMENTARY INFORMATION: This is a summary of the Commission's Notice of Proposed Rulemaking (“NPRM”) in WT Docket No. 10-4, FCC 10-53, adopted on April 5, 2011, and released on April 6, 2011. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to fcc504@fcc.gov. or by calling the Consumer & Governmental Affairs Bureau at 202-418-0530 (voice), 202-418-0432 (tty).

I. Procedural Matters

A. Ex Parte Rules-Permit-But-Disclose Proceeding

1. This rulemaking shall be treated as a “permit-but-disclose” proceeding in accordance with the Commission's ex parte rules. Persons making oral ex parte presentations are reminded that memoranda summarizing the presentations must contain summaries of the substance of the presentations and not merely a listing of the subjects discussed. More than a one or two sentence description of the views and arguments presented generally is required. Other requirements pertaining to oral and written presentations are set forth in § 1.1206(b) of the Commission's rules.

B. Comment Filing Procedures

2. Pursuant to §§ 1.415 and 1.419 of the Commission's rules, 47 CFR 1.415, and 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://fjallfoss.fcc.gov/ecfs2/ or the Federal eRulemaking Portal: http://www.regulations.gov.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington, DC 20554.

People with Disabilities: To request materials in accessible formats for people with disabilities (braille, large print, electronic files, audio format), send an e-mail to fcc504@fcc.gov or call the Consumer & Governmental Affairs Bureau at 202-418-0530 (voice), 202-418-0432 (tty).

3. Parties should send a copy of their filings to Joyce Jones, Federal Communications Commission, Room 6404, 445 12th Street, SW., Washington, DC 20554, or by e-mail to joyce.jones@fcc.gov. Parties shall also serve one copy with the Commission's copy contractor, Best Copy and Printing, Inc. (BCPI), Portals II, 445 12th Street, SW., Room CY-B402, Washington, DC 20554, (202) 488-5300, or via e-mail to fcc@bcpiweb.com.

4. Documents in WT Docket No. 10-4 will be available for public inspection and copying during business hours at the FCC Reference Information Center, Portals II, 445 12th Street SW., Room CY-A257, Washington, DC 20554. The documents may also be purchased from BCPI, telephone (202) 488-5300, facsimile (202) 488-5563, TTY (202) 488-5562, e-mail fcc@bcpiweb.com.

5. To request materials in accessible formats for people with disabilities (Braille, large print, electronic files, audio format), send an e-mail to fcc504@fcc.gov or call the Consumer & Governmental Affairs Bureau at 202-418-0530 (voice) or 202-418-0432 (TTY). Contact the FCC to request reasonable accommodations for filing comments (accessible format documents, sign language interpreters, CART, etc.) by e-mail: FCC504@fcc.gov; phone: 202-418-0530 or TTY: 202-418-0432.

C. Paperwork Reduction Act

6. This document contains a proposed or a modified information collection. Accordingly, we seek comment on the impact of this NPRM on information collections, pursuant to the Paperwork Reduction Act of 1995.

Synopsis of the Notice of Proposed Rulemaking

II. Introduction

7. In this document, the Commission initiates a proceeding to facilitate the development and deployment of well-designed signal boosters, which hold great potential to empower consumers in rural and underserved areas to improve their wireless coverage in their homes, at their jobs, and when they travel by car, recreational vehicle, or boat. The Notice of Proposed Rulemaking (NPRM) proposes a new regulatory framework authorizing individuals and entities to operate “consumer signal boosters” provided the devices comply with: (1) All applicable technical and radiofrequency (RF) exposure rules, and (2) a set of parameters aimed at preventing and controlling interference and rapidly resolving interference problems should they occur. A consumer signal booster is any signal booster operated by (or for the benefit of) consumers on spectrum being used to provide subscriber-based services, e.g., voice communications, texting, using a broadband connection to access e-mail or the Internet. The Commission also proposes revisions to the rules governing signal boosters used for private land mobile services.

8. In addition, the Commission addresses three petitions for rulemaking filed by Bird Technologies, Inc. (filed Aug. 18, 2005), the DAS Forum (a membership section of PCIA—the Wireless Infrastructure Association) (filed Oct. 23, 2009) (DAS Forum), and Wilson Electronics, Inc. (filed Nov. 3, 2009), and a petition for declaratory ruling filed by Jack Daniel DBA Jack Daniel Company (filed Sept. 25, 2008), all of which relate to signal boosters.

III. Discussion

A. Certification and Use of Consumer Signal Boosters

1. License-by-Rule Framework

9. The Commission proposes to license the use of signal boosters by rule under section 307(e) of the Communications Act, 47 U.S.C. 307(e). 47 U.S.C. 307(e)(1) states in part that, “[n]otwithstanding any license requirement established in this Act, if the Commission determines that such authorization serves the public interest, convenience, and necessity, the Commission may by rule authorize the operation of radio stations without individual licenses in the following radio services: (A) Citizens band radio service; * * * ” section 307(e) states further that, “[f]or purposes of this subsection, the terms ‘citizens band radio service', * * * shall have the meanings given them by the Commission by rule.” The Commission believes that a license-by-rule framework would be the best approach for enabling operation of properly certificated signal boosters, particularly because it would obviate the need for burdensome individual licensing requirements. The Commission's proposed regulatory framework would facilitate operation of signal boosters to enhance wireless coverage and access to broadband services, while minimizing administrative costs and burdens on the public, Commission licensees, and agency staff, thus serving the public interest, convenience and necessity.

10. The Commission tentatively concludes that authorizing the operation of properly certificated signal boosters by rule under section 307(e) of the Act would further the public interest, convenience, and necessity. Signal boosters provide substantial public benefits for consumers by improving wireless coverage in rural, indoor, and other hard to serve locations where wireless coverage may be deficient. However, because the Commission proposes to authorize operation of signal boosters on licensed spectrum, the Commission further proposes that any such use would be on a secondary, non-interfering basis, and would have to meet the proposed technical parameters of operation, which are designed to prevent, control, and quickly resolve any interference should it occur.

2. General Requirements for All Consumer Signal Boosters

11. Manufacturing Requirements. The Commission proposes that all consumer signal boosters must meet all applicable technical specifications for the relevant band(s) of operation as they apply to mobile units (i.e., not base station technical specifications). The applicable rules are 47 CFR 22.355, Public Mobile Services frequency tolerance; 47 CFR 22.913, Cellular effective radiated power limits; 47 CFR 22.917, Emission limitation for cellular equipment; 47 CFR 24.232, PCS power and antenna height limits; 47 CFR 24.238, Emission limitations for Broadband PCS equipment; 47 CFR 27.50, Miscellaneous Wireless Communications Services power and antenna height limits; 47 CFR 27.53, Miscellaneous Wireless Communications Services emission limits; 47 CFR 90.205, Private Land Mobile Radio Services power and antenna height limits; 47 CFR 90.210, Private Land Mobile Radio Services emission masks; 47 CFR 90.219, Private Land Mobile Radio Services use of signal boosters; and 47 CFR 90.247, Private Land Mobile Radio Services mobile repeater stations. The Commission seeks detailed comment on our proposal and proposed rule language set forth below that signal boosters must comply with all applicable technical requirements for mobile units for the bands they will operate on. In addition, the Commission seeks comment on whether any other technical specifications should apply and the costs and benefits of adopting such additional technical requirements.

12. The Commission also proposes that all signal boosters must monitor the device's compliance with all applicable technical requirements for mobile devices for the band in which they operate (e.g. power, out-of-band emissions (OOBE)). The Commission believes base station technical limits are not applicable because they would allow significantly higher power levels, which are not warranted for this service. If it is determined that the device is operating outside of the applicable technical parameters, the Commission proposes that the device must be capable of shutting itself down automatically within ten (10) seconds (or less). The Commission further proposes that the device must remain off for at least one (1) minute before restarting. If after five (5) restarts, the device is still not operating consistent with applicable technical rules, it must shut off and remain off until manually restarted by the device operator. The Commission also proposes that all signal boosters must detect feedback or oscillation (such as may result from insufficient isolation between the antennas) and deactivate the uplink transmitter within 10 seconds of detection. After such deactivation, the booster must not resume operation until manually reset. These built-in technological safeguards would minimize the potential for harmful interference to wireless networks.

13. The Commission seeks detailed comment on its proposal and proposed rule language set forth below, including the appropriate triggers to initiate device shut down. In addition, the Commission queries whether signal boosters should monitor for any other parameters and, if so, how such monitoring would be accomplished and at what additional cost. Further, the Commission seeks specific comment on whether the existing technical rules that apply to mobile devices in parts 22, 24 and 27 are appropriate for all signal booster devices. Are these technical limits adequate to address varying types of signal booster installations, e.g., personal use vs. carrier and enterprise installations, which are typically professionally installed and designed to cover large areas such as office buildings or arenas? The Commission notes that signal boosters can be designed for use on both the Personal Communications Service (PCS) and Cellular Radiotelephone Service bands, but different technical requirements apply to these bands; does this create unnecessary design challenges for signal booster manufacturers? The Commission also notes that mobile subscriber unit power is subject to an effective radiated power (ERP) limit, which is appropriate for devices with integrated antennas, while most signal boosters do not have integrated antennas. Would transmitter output power be a more appropriate power limit measure for signal booster devices? The Commission requests detailed comment on the appropriate technical limits that should apply to signal boosters for each band of operation, including the associated costs and benefits.

14. The Commission also seeks comment on other technical requirements that may be necessary to ensure signal boosters do not negatively affect carriers' networks. For example, some commenters expressed concern that wideband signal boosters generate additional radio frequency (RF) noise that can reduce the capacity and reliability of the network even when subscriber signals are not amplified. We seek detailed comment and analyses on the impact of wideband signal booster use on wireless networks. How are these impacts different from narrowband signal boosters? How can wideband signal boosters be designed to avoid potential problems? Can specific device features minimize network impact, e.g., programmability to a specific frequency block or powering on only when needed to amplify a signal? Specifically, how would such design features affect device cost?

15. RF Exposure. The Commission proposes to apply the relevant part 22, 24, 27 or 90 mobile station technical requirements to signal boosters. In addition, the Commission proposes to prohibit signal boosters that are designed to be used so that the radiating structure(s) is/are within 20 centimeters of the user or other persons, as defined for portable devices in § 2.1093(b). Thus, the Commission proposes to permit only fixed and mobile signal boosters, which will be governed by the RF exposure rules regarding how the devices are deployed. The RF exposure rules in §§ 1.1307 and 2.1091 of the Commission's rules outline exposure limits, equipment authorization requirements, and other regulatory requirements that are based on the type of device, how it is deployed or used, the power of its transmissions, and the proximity of its antenna and radiating structures to a person's body. To maintain RF exposure compliance, the operation of signal boosters can be highly dependent on how they are installed and operated with respect to the fixed and mobile exposure conditions required by §§ 1.1307 and 2.1091; therefore, in addition to the routine evaluation currently required under § 2.1091 for parts 22, 24, 27 and 90 devices, clear installation and user operating instructions/requirements are proposed to be necessary for installers and end users to satisfy RF exposure requirements.

16. The Commission's existing RF exposure rules have proven effective in ensuring compliance for the deployment and use of existing signal boosters, and thus the Commission sees no reason to change the existing RF exposure requirements. The Commission will, however, outline these requirements in a new § 95.1627. Specifically, the Commission proposes to maintain its requirement that routine RF exposure evaluation is required for signal boosters authorized under part 95 that operate under fixed and mobile exposure conditions. The Commission proposes to amend §§ 1.1307(b) and 2.1091 of its rules accordingly. In addition, as required by § 2.1091, applications for equipment authorization shall contain a statement confirming compliance with the RF exposure limits for both the fundamental and unwanted emissions. Further, technical information showing the basis for compliance with RF exposure requirements must be submitted to the Commission upon request. Since signal boosters operating in fixed-mounted configurations are generally deployed similarly to subscriber transceiver antennas, the Commission proposes to require labeling for these types of signal boosters as similarly required for subscriber transceiver antennas in Table 1 of § 1.1307(b)(1). The Commission seeks comment on all aspects of our proposal.

17. Labeling and Marketing Requirements. The Commission proposes that all signal boosters must be labeled and marketed to consumers with clear information specifying the legal use of the device. Numerous commenters request a marketing and/or labeling requirement for signal boosters. Specifically, the Commission proposes that marketing materials must include a prominently placed “consumer disclosure” notifying consumers that the signal booster can only be operated consistent with part 95, Subpart M. For example, for signal boosters offered online or via direct mail or catalog, the consumer disclosure should be prominently displayed in close proximity to the images and descriptions of each signal booster. In addition, the Commission proposes that all signal booster packaging must prominently display the consumer disclosure using a label, either on or otherwise affixed to the package. Specifically the Commission proposes that all signal boosters marketed on or after six months from the effective date of our rules must include the following advisories in 12-point or greater typeface (1) in any marketing materials, (2) in the owner's manual, (3) on the outside packaging of the device, and (4) on a label affixed to the device:

WARNING. Operation of this device is on a secondary non-interference basis and must cease immediately if requested by the FCC or a licensed wireless service provider.

In addition to the above, signal boosters intended for fixed operation must include the following advisory:

WARNING. Operation of this device must be coordinated with, and information on channel selection and operating power must be obtained from, the applicable spectrum licensees authorized in the area of deployment. Licensee information is available at http://www.fcc.gov/signalboosters.

18. The Commission seeks comment on its proposals, including the text of our proposed rules set forth below. In addition, the Commission seeks comment on whether to require manufacturers, retailers, and any other entity marketing or selling signal boosters to display the consumer disclosure language conspicuously at the point-of-sale and on their Web sites. The Commission also seeks comment on whether to include enforcement language as part of the consumer disclosure.

19. Operator Requirements. The Commission also proposes that if a signal booster is causing harmful interference as defined in part 2.1 of its rules, 47 CFR 2.1, the operator of the device must immediately cease operations. While the Commission believes that its proposed rules will facilitate the development and deployment of robust signal boosters which will not harm wireless networks, in the event harmful interference does occur, this safeguard confirms that an interfering signal booster operator must cease operation. The Commission seeks comment on its proposals and proposed rule language set forth below. In addition, the Commission seeks comment on whether and how signal booster operators should be protected from interference from other signal booster operations.

3. Fixed Signal Booster Requirements

20. The Commission's proposed rules seek to facilitate the development of signal boosters which do not cause harmful interference to wireless networks. Avoiding harmful interference, however, will differ for fixed and mobile signal boosters. Accordingly, in addition to the general requirements discussed above, the Commission proposes additional and separate requirements for fixed and mobile signal boosters.

21. The Commission proposes to require all operators of fixed consumer signal boosters to coordinate frequency selection and power levels with applicable carrier(s) prior to operation. For purposes of this proceeding, the term “fixed signal booster” refers to a signal booster that is operated at a fixed location, e.g., office building, tunnel, garage, home. The Commission seeks comment on this proposal and its proposed rules, including whether there are other requirements specific to fixed signal boosters that it should mandate. For example, is coordination sufficient to address the power control concerns of Code Division Multiple Access (CDMA) carriers or should all signal boosters be equipped with dynamic power control capabilities? What would be needed to accomplish sufficient dynamic power control and at what cost? In addition, what type of coordination should be required for temporary or emergency deployment of signal boosters? Further, how should the coordination process accommodate a carrier's subsequent network changes? The Commission notes that, as drafted, its proposed rule would permit fixed, outdoor installation of signal boosters. The Commission recognizes, however, that such outdoor installations may pose additional installation challenges for achieving adequate antenna attenuation, among other things. Accordingly, the Commission queries whether additional safeguards are necessary for fixed, outdoor signal booster installations, such as a professional installation requirement?

22. The Commission recognizes that there may be instances where a service provider may not timely respond to coordination requests. The Commission thus seeks comment on how to administer a coordination requirement that balances the need for timely coordination with the resulting burdens on carriers. The Commission seeks detailed comment on how the coordination should be structured, including whether to impose specific timelines for responding to a coordination request and what dispute resolutions procedures are necessary in the event the parties cannot reach a coordination agreement.

4. Mobile Signal Booster Requirements

23. In order to prevent mobile signal boosters from causing harmful interference to wireless networks, different safeguards are necessary. Unlike fixed devices, mobile signal boosters cannot reasonably be coordinated with nearby carrier base stations in advance. In lieu of that coordination, the Commission seeks to ensure that mobile signal boosters only operate when needed, and cease operations when they are unnecessary. The Commission therefore proposes to require a signal booster operating in a mobile environment to power down or shut down as the device approaches the base station with which it is communicating. If implemented in signal boosters, such a safeguard could protect a service provider's network by mitigating excess noise to base stations from signal boosters that are operating but not needed. The Commission seeks comment on this proposal and proposed rules set forth below, including how this concept would be implemented and enforced. Could the devices simply turn off when not needed or could a dynamic power control similar to that used by mobile phones be implemented in a signal booster? Commenters should address the technical, operational and economic challenges to such an approach.

24. While powering down or shutting down will reduce noise at the base station with which the device is communicating, a signal booster can also introduce noise to other carriers' base stations (the “near-far problem”). For example, a signal booster communicating with Carrier “A,” far from carrier A's base station may be near Carrier “B's” base station and introduce excessive noise to Carrier B. In this vein, the Commission seeks comment on whether and how it should address this problem. How best can a mobile signal booster prevent noise generation with base stations with which it is not communicating? For example, should the Commission only permit carrier-specific signal boosters for mobile applications, or should it require that mobile signal boosters be tethered to the phone or only be approved if they have a docking station to ensure amplification of only the desired signal of the operator? If such protection is necessary, how should it be accomplished? Specifically, how will additional design features influence device cost? Are there other potential problems that manufacturers should address? Several commentators also suggest that mobile signal boosters include some form of automatic gain control to avoid base station overload. The Commission seeks comment on whether we should require devices to have automatic gain control and how that should be accomplished.

5. Other Proposals

25. Four parties—AT&T, CTIA, the Wireless Association, the DAS Forum, and Wilson Electronics, Inc.—submitted alternate proposals which may facilitate the development of well-designed, properly operating and installed signal boosters while controlling, preventing and, if necessary, resolving interference to wireless networks. The Commission carefully examined these proposals and, where appropriate, incorporated specific elements from these proposals where they appeared narrowly tailored to address carriers' concerns about network reliability and management, into the Commission's overall proposal. The Commission seeks comment on these four proposals, including whether additional elements of these proposals should be included in the Commission's comprehensive proposal for signal boosters. For example, the Commission notes that there appears to be some commonality between the proposals submitted by AT&T, CTIA, and Wilson regarding the need for signal boosters to include a form of remote shut-off capability. Should the Commission include remote shut-off capability among the safeguards in its proposed framework and how should it be implemented? In addition, should such a shut-off feature be subject to a quantitative or qualitative standard, e.g., reasonable network management? Also, should the Commission require boosters to incorporate location detection features as suggested by some commenters? Further, the Commission seeks detailed comment on the impact of signal booster use on network-based E-911 systems, including how manufacturers might implement CTIA's proposal to require signal boosters to include a mechanism for relaying accurate E-911 location information. The Commission also encourages comment on other safeguards not currently included in its proposal or the alternate proposals that could promote signal booster use. Commenters advocating additional safeguards should address the costs and benefits of such additional features.

6. Treatment of Existing Signal Boosters

26. The Commission recognizes that there are signal boosters being operated today by CMRS licensees or others, which will not meet the requirements we propose in the NPRM. The Commission seeks comment on how such boosters should be treated. Further, should the Commission sunset the use of existing signal boosters which do not meet its proposed safeguards or grandfather certain existing signal boosters? In addition, to the extent the Commission determines to grandfather certain signal boosters and adopts a signal booster registration requirement, it queries whether grandfathered devices should also be subject to such a requirement. The Commission notes that nothing in this item affects the ability of the Commission's Enforcement Bureau to investigate and take appropriate action to resolve instances of interference caused by signal boosters.

27. At the same time, the Commission seeks to provide an orderly transition to signal boosters that meet any new requirements developed in this proceeding, and minimize public confusion about whether particular devices are legal for use going forward. The Commission proposes a two-step approach to achieving these goals. First, the Commission proposes that, beginning 30 days after the effective date of final rules in this proceeding, all applications for equipment authorization must show that the device meets the new rules. Second, the Commission proposes that, beginning six months from the effective date of its rules, all signal boosters marketed or sold in the United States must meet its proposed safeguards. This approach encourages manufacturers to quickly transition to devices that meet the new rules, providing near-term equipment options for licensees and consumers. The Commission seeks comment on this proposal, including whether these timeframes are reasonable.

B. National Signal Booster Clearinghouse

28. While the technical and operational safeguards the Commission proposes reduce the likelihood that interference will occur, in the event it does occur, there may be benefits to requiring signal booster operators to register their devices prior to use. For example, a national signal booster clearinghouse could hasten interference resolution by providing licensees with a quick resource for identifying nearby signal boosters and points of contact. Similarly, a clearinghouse could be useful to identify sources of interference for future network changes. Accordingly, the Commission seeks comment on whether signal booster operators should be required to register their devices with a national clearinghouse prior to operation. Further, the Commission seeks detailed comment on how a clearinghouse could be structured and what information should be required. Specifically, the Commission seeks comment on how a clearinghouse could be administered, by whom, and whether there are technical or programmatic features that could aid compliance with a registration requirement, e.g., signal boosters could be equipped with features that would prevent operation until properly registered. Commenters should also address the costs and benefits of a registration requirement.

29. While recognizing the potential benefits of signal booster registration, the Commission is mindful of the burden a registration requirement might create for consumers. The Commission thus seeks comment on practical measures it might adopt to minimize or eliminate consumer burdens. For example, should certain types of devices be excluded from registration, e.g., consumer versus professionally installed devices? Likewise, should any registration requirement be limited to fixed signal boosters because their precise locations are known and registration would allow licensees to quickly identify all fixed boosters in a particular area in the event interference is observed at a base station? Finally, the Commission queries whether, given the transient nature of the location of mobile signal boosters, registration would be effective in helping to identify and prevent interference from signal boosters.

C. Signal Boosters for Part 90 Private Land Mobile Radio Service Operations

30. Regarding Part 90 Private Land Mobile Radio (PLMR), non-consumer signal boosters operated by licensees, the Commission proposes revisions to the technical and operational requirements aimed at preventing interference. Specifically, the Commission proposes to:

• Retain the Class A (narrowband) and Class B (wideband) regulatory distinctions and permit private land mobile fixed (Class A and B) and mobile (Class A only) devices.

• Make clear that Class B devices must be limited to confined areas such as buildings, tunnels, parking structures, etc., but allow Class B signal boosters to be connected to external antennas that can communicate with base stations.

• Seek comment on whether to relax or otherwise improve the power and emission limits for Class A and Class B devices.

• Seek comment on whether to require part 90 PLMR, including 700 MHz public safety broadband (non-consumer) devices, to also meet the technical and coordination requirements for consumer signal boosters.

• Seek comment on the impact of the proposed rules on public safety vehicular external antennas and whether additional flexibility should be afforded to such uses.

The Commission encourages commenters to address the costs and benefits of the Commission's proposals as well as any alternatives proposed by commenters.

1. Commercial vs. Private Part 90 Signal Booster Operation

31. Part 90 services include both subscriber-based services and PLMR, which warrant different approaches for signal booster operation. In order to promote regulatory parity, the Commission proposes to apply the same technical and operational requirements to all consumer signal boosters. Thus, the Commission proposes that part 90 consumer signal booster operators must comply with proposed § 95.1600 et seq. of its rules. In addition, however, given the unique characteristics of part 90 licensing, the Commission also proposes that part 90 consumer signal booster operators must comply with existing technical requirements for part 90 signal boosters and any new requirements we may adopt in the course of this proceeding. PLMR signal booster operators will continue to be required to comply with existing part 90 signal booster requirements and any new requirements the Commission may adopt in the course of this proceeding. The Commission seeks comment on its approach, including the costs and benefits, but query whether some or all of the technical and regulatory framework proposed above for consumer signal boosters should be applied to part 90 PLMR signal boosters.

2. Part 90 Signal Booster Classifications

32. The Commission proposes to maintain the Class A (narrowband) and Class B (wideband) distinctions for signal boosters in part 90. Class A signal boosters allow part 90 licensees with interleaved channels to meet their own needs without affecting neighboring licensees. In addition, the record demonstrates a demand and need for Class B signal boosters where proper installation and licensee coordination can avoid interference. The Commission believes that maintaining the Class A and Class B signal booster distinction affords licensees the flexibility to deploy signal boosters to fill in dead spots in coverage, extend coverage into buildings and obstructed areas, and provide extended range for public safety entities in rural areas with poor signal coverage. The Commission seeks comment on its proposal and takes this opportunity to seek comment on further distinctions, definition changes, or operational requirements for Class A and Class B signal boosters to ensure they are properly deployed and operated in the public interest.

3. Part 90 Signal Booster Operation

33. The Commission believes that Class B signal booster use should be limited to confined areas such as buildings, tunnels, parking garages or other structures where the signal would be contained. Accordingly, the Commission proposes to remove the language “or in remote areas” from § 90.219(d) in order to clarify where Class B signal boosters may operate. Class B signal boosters amplify all signals within the device's passband, which makes it difficult to coordinate Class B signal booster use where different licensees have interleaved narrowband channels. Because of this additional level of complexity, Class B signal booster use in the part 90 bands should continue to be restricted to enclosed areas where the signals can be more easily controlled. The removal of the “or in remote areas” language should also eliminate any confusion regarding the allowable geographic locations for Class B signal boosters. Class B boosters can be deployed in both urban and rural areas so long as they are installed in a confined area; Class B signal booster use is not restricted to rural or remote areas. The Commission seeks comment on its proposal. In addition, the Commission seeks comment on how to structure a reasonable transition process for existing Class B signal boosters that do not meet its proposed rules. For example, should the Commission temporarily grandfather such devices and if so, under what terms and for what period of time?

34. The Commission also proposes to allow Class B signal booster operators to pair enclosed, Class B signal boosters with external antennas in order to provide a return path to the licensee's base or repeater station. Containing a Class B booster's signal completely within a structure eliminates the device's primary function—to facilitate signals into and out of obstructed areas. This type of deployment is used to facilitate public safety communications during in-building emergencies and many local jurisdictions require in-building signal boosters for this purpose. If properly coordinated and installed, such in-building signal booster systems can provide an important communications link without causing interference. The Commission seeks comment on its proposal. In addition, the Commission seeks comment on how to facilitate non-licensee use of part 90 PLMR Class B signal boosters for in-building emergency communications, including whether it should adopt our proposed consumer signal booster license-by-rule approach for such use. The Commission also seeks comment on whether additional safeguards are necessary to control interference from in-building signal booster systems. For example, how can the return link be coordinated and deployed in confined areas over frequency ranges that cover multiple licenses? Should the Commission restrict the return link to Class A signal boosters only?

4. Part 90 Mobile Signal Boosters

35. The Commission's current policy affords part 90 licensees flexibility to implement a variety of devices, including mobile signal boosters, on their authorized channels as long as technical requirements are met and coordinated service boundaries are maintained. The Commission proposes to amend its rules to codify this policy and explicitly permit part 90 licensees to use mobile signal boosters on their assigned frequencies. The Commission recognizes, however, that interleaved part 90 channels present additional complications for controlling interference due to the number of different licensees that could be affected. For these reasons, the Commission does not believe wideband, mobile Class B signal boosters should be allowed on interleaved part 90 channels. The Commission thus proposes to only allow part 90 licensees to operate mobile Class A signal boosters on their assigned frequencies. The Commission recognizes that its proposal may prevent part 90 mobile consumer signal booster use because of the difficulty in designing a Class A mobile signal booster. We seek comment on our proposal including how our proposal will affect part 90 mobile consumer signal booster use. Should part 90 SMR licensees or their subscribers be permitted to operate mobile Class B signal boosters? Should 700 MHz public safety broadband licensees or their public safety users be permitted to operate mobile Class B boosters? What additional safeguards or requirements would be necessary to allow Class B signal boosters in a mobile environment without increased interference potential? Should the Commission permit mobile Class B signal boosters if the mobile device is tethered or placed in a docking station, such that only the desired mobile signal is amplified?

36. Mobile Amplifiers. In addition, Jack Daniel asks the Commission to clarify that a mobile amplifier is distinct from a mobile signal booster. Specifically, Jack Daniel proposes that the Commission define mobile amplifiers as “radio frequency amplifiers that physically connect[] to the mobile radio, portable or handset, typically [via] the antenna connector.” Historically, the Commission has treated these devices as part 90 transmitters for PLMR public safety and business/industrial pool licensees and allowed their use so long as they did not result in the device operating outside of part 90 technical rules. Given this opportunity to review the use of these part 90 amplifiers, the Commission seeks comment on whether any restrictions should be placed on these devices. For example, should commercial SMR service subscribers be permitted to use mobile amplifiers under a different set of technical requirements and what should they be? Most SMR subscriber radios have integrated antennas so connecting an external antenna may not be possible, but the Commission seeks comment on the viability of mobile amplifiers for SMR services. Does connecting the amplifier directly to the mobile device via a physical connection adequately address the interference concerns raised in this proceeding? What technical limits should be applied to mobile amplifiers, e.g., should the Commission adopt separate power limits other than those that apply to part 90 mobile radios generally, should the Commission require automatic gain control or other features to ensure these devices do not cause interference? Should the Commission require that mobile amplifiers be tested with specific radio models to ensure that, when combined, the devices together meet applicable technical requirements in order to merit certification?

5. Technical and Other Issues for Part 90 PLMR Signal Boosters

37. Emission Limits for Part 90 Signal Boosters. Commenters state that due to the use of narrowband digital modulation techniques since the signal booster rules were adopted, today's Class A signal boosters are not able to boost discrete digital narrowband channels without incurring group delay which could cause intermittent problems with the receiver's performance. The Commission believes there may be merit in the suggestion by commenters to relax the emission limits for Class A signal boosters to allow for consideration of the group delay issue. Accordingly, the Commission seeks comment as to what passband technical specifications (that could be verified through our equipment certification process) should be required for Class A boosters in lieu of the current requirement to meet the standard emission masks for transmitters. Would it be appropriate to use the 60 kHz passband (at −3 dB), 150 kHz (at −60 dB) specification proposed by Canam Technology, Inc.? Or should the maximum allowable passband be scaled in some way to the occupied bandwidth of the channel to be amplified? What sort of technical specification would be appropriate to verify the linearity and performance characteristics of a Class A signal booster to ensure that the out-of-band emissions of boosted signals are not degraded by intermodulation products or spurious emissions?

38. The Commission also seeks comment on the appropriate emission limits for Class B signal boosters. What emission mask sufficient for Class B signal boosters? Are Class B signal boosters programmable such that the roll off characteristics can be adjusted to apply to the upper and lower spectrum boundaries of the licensee's desired spectrum range? What other types of emission limitations should be considered for Class B signal boosters and how should compliance with these limits be measured in the equipment certification process?

39. Signal booster power limits. While the Commission recognizes that increased power limits for Class A signal boosters may facilitate more economical distribution systems, such increased power limits come with added interference concerns and complexity. A properly engineered and installed higher power Class A signal booster could be useful to fill in dead spots in outdoor coverage or to more economically cover large buildings. However, increasing the power limit would also significantly increase the device's interference potential and could present RF exposure issues if not carefully deployed. The Commission believes more information is needed on this issue before a decision can be made. The Commission thus seeks comment on whether part 90 signal boosters (both Class A and Class B) should be permitted to increase their power levels. What increased power levels are appropriate and what additional safeguards should be adopted? If the Commission permits Class A signal boosters to operate at higher levels, should such operation be limited to fixed applications? Should the Commission decrease the power limit for mobile Class A boosters to minimize interference potential? The Commission also seeks comment on whether the existing power limit remains appropriate for Class B signal boosters and whether it is expressed clearly in § 90.219(b) or whether the language “limited to 5 watts ERP for each authorized frequency that the booster is designed to amplify” has created confusion.

40. Equipment authorization for part 90 signal boosters. The Commission also takes this opportunity to augment the record on additional issues related to signal booster power levels. Specifically, a review of the equipment authorization database reveals that signal boosters have been certified with a wide range of signal booster power levels, many well in excess of 5 watts transmitter output power. This is because at the time of equipment authorization, the testing authority does not know how the device will be installed, how much signal will be lost in cables to outside antennas or the type of antenna that will be used. Nor does the testing authority know if the device will be installed as a signal booster subject to power limits in § 90.219 or as an amplifier that will be connected directly to a radio and not subject to the 5 watt ERP limit. Given these practical realities, is 5 watt ERP the proper power limit for signal boosters? Is ERP the best measure of power for signal boosters? Is the existing equipment authorization process sufficient to ensure signal boosters are approved in such a way that their operation is consistent with our rules? To ensure proper authorization of devices for their intended use, should the Commission require documentation or labeling on signal amplification devices to describe how the device is to be used under our rules? Should the Commission change the way it measures compliance for signal boosters to better differentiate between Class A and Class B signal boosters or between a signal booster and an amplifier designed to connect directly to a radio? While measuring field strength of a device would ensure compliance with our rules, it would make it difficult for the installer to address the wide range of deployment scenarios. The Commission thus seeks comment on other rules or techniques that can be used in the equipment authorization process to ensure signal boosters are properly operated.

41. PLMR Signal Booster Registration. PLMR signal booster operation, like consumer signal booster use, presents the same potential for interference to wireless operations. The Commission thus seeks comment whether, consistent with any registration process it may adopt for consumer signal booster operators, PLMR signal booster operators should also be required to register their signal boosters with a national, centralized clearinghouse prior to use. If interference from a PLMR booster occurs, the clearinghouse could provide other part 90 licensees with a ready resource for identifying and rectifying the source of the interference. Further, the Commission seeks comment on whether any registration requirement would apply to fixed, mobile, or both types of signal boosters.

42. Other design requirements. The Commission also seeks comment on whether part 90 PLMR signal boosters, including 700 MHz public safety broadband (non-consumer) devices, should be required to implement some or all of the safeguards it proposes for consumer signal boosters, such as automatic monitoring and shut down capabilities. Are these additional safeguards necessary for Class A signal boosters which are designed and deployed by the licensee to amplify only their authorized channel(s)?

43. 800 MHz Rebanding. As noted by several commenters, 800 MHz part 90 frequencies are subject to a rebanding process to resolve interference issues related to a mix of interleaved commercial, private and public safety channels. Once rebanding is complete, the separation of commercial SMR frequencies from part 90 PLMR channels will facilitate the deployment of signal boosters with less complication and fewer instances of interference. Jack Daniel points out, however, that after rebanding, thousands of consumers will likely continue to operate existing signal boosters unaware that the signals they are trying to amplify have been moved to another spectrum. Accordingly, Jack Daniel suggests that we establish a deadline for the removal of these devices from service. Jack Daniel acknowledges that implementation of such a deadline will require the participation of retailers and manufacturers of the products. The Commission seeks comment on the impact of rebanding on existing and future uses of part 90 signal boosters. Should the Commission establish a sunset date for the operation of existing Part 90 Class B signal boosters that operate in the 800 MHz band? How should the Commission effectuate such a sunset? Given that part 90 consumer operations would likely be limited to the rebanded SMR frequencies, should there be different technical requirements for signal boosters on those frequencies than for devices that would operate in the public safety and business/industrial pool? Recognizing the complexities involved in the rebanding process, should the Commission exclude part 90 consumer signal boosters from the general consumer signal booster license—by-rule framework until after the completion of the rebanding process?

44. Request for forbearance on conflicting regulations to local zoning laws. Jack Daniel requests that the Commission forbear from adopting any regulations that would hinder local zoning decisions that require the installation of signal boosters in buildings to facilitate communications by public safety first responders. Jack Daniel argues that many local governments have adopted or are considering code requirements that would require the installation of Class B signal boosters in buildings, and that the Commission should not usurp, via an assertion of exclusive jurisdiction, local zoning requirements by adopting conflicting rules.

45. The Commission's intent in this proceeding is to facilitate the development and deployment of well-designed signal boosters which will expand wireless coverage for consumers without harming wireless networks. The Commission does not seek to preempt local governments' authority to require the installation of signal boosters pursuant to fire or other building codes in the context of this proceeding. Any such installations, however, are required to comply with the Commission's existing rules applicable to signal boosters and will be required to comply with any rules which it may adopt in this proceeding.

46. As required by the Regulatory Flexibility Act of 1980, as amended (RFA), the Commission has prepared this present Initial Regulatory Flexibility Analysis (IRFA) of the possible significant economic impact on a substantial number of small entities small entities by the policies and rules proposed in this NPRM. Written public comments are requested on this IRFA. Comments must be identified as responses to the IRFA and must be filed by the deadlines for comments on the NPRM provided in section V.F.2. of the item. The Commission will send a copy of the Notice of Proposed Rule Making, including this IRFA, to the Chief Counsel for Advocacy of the Small Business Administration (SBA). In addition, the NPRM and IRFA (or summaries thereof) will be published in the Federal Register.

Need for, and Objectives of, the Proposed Rules

47. The regulatory framework for signal boosters proposed in this NPRM is one element in a set of initiatives designed to promote deployment of mobile voice and broadband services in the United States. Well-designed, properly operating, and properly installed signal boosters have the potential to improve consumers' wireless network coverage without harming commercial, private, and public safety wireless network performance. Malfunctioning, poorly designed, or improperly installed signal boosters, however, may harm consumers by blocking calls, including E-911 and other emergency calls, and decreasing network coverage and capacity. The regulatory framework proposed in this NPRM seeks to create appropriate incentives for carriers and manufacturers to collaboratively develop robust signal boosters that do not harm wireless networks. This, in turn, will empower consumers to improve their cell phone coverage as they deem necessary. The public interest is best served by ensuring that consumers have access to well-designed boosters that do not harm wireless networks.

48. The NPRM proposes a new regulatory framework authorizing the operation of “consumer signal boosters” provided the devices (1) comply with all applicable technical rules, and (2) comply with a set of parameters aimed at preventing and controlling interference and rapidly resolving interference problems should they occur. We also propose certain revisions to our service rules in part 90.

Legal Basis

49. The proposed action is authorized under §§ 4(i), 4(j), 301, 303(r), and 307 of the Communications Act of 1934, as amended, 47 U.S.C. 154(i), 154(j), 301, 303(r), 307.

Description and Estimate of the Number of Small Entities To Which the Proposed Rules Will Apply

50. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the SBA.

51. Nationwide, there are a total of approximately 29.6 million small businesses, according to the SBA. A “small organization” is generally “any not-for-profit enterprise which is independently owned and operated and is not dominant in its field.” Nationwide, as of 2002, there were approximately 1.6 million small organizations. The term “small governmental jurisdiction” is defined generally as “governments of cities, towns, townships, villages, school districts, or special districts, with a population of less than fifty thousand.” Census Bureau data for 2002 indicate that there were 87,525 local governmental jurisdictions in the United States. We estimate that, of this total, 84,377 entities were “small governmental jurisdictions.” Thus, we estimate that most governmental jurisdictions are small.

52. Wireless Telecommunications Carriers (except Satellite). Since 2007, the Census Bureau has placed wireless firms within this new, broad, economic census category. Prior to that time, such firms were within the now-superseded categories of “Paging” and “Cellular and Other Wireless Telecommunications.” Under the present and prior categories, the SBA has deemed a wireless business to be small if it has 1,500 or fewer employees. Because Census Bureau data are not yet available for the new category, we will estimate small business prevalence using the prior categories and associated data. For the category of Paging, data for 2002 show that there were 807 firms that operated for the entire year. Of this total, 804 firms had employment of 999 or fewer employees, and three firms had employment of 1,000 employees or more. For the category of Cellular and Other Wireless Telecommunications, data for 2002 show that there were 1,397 firms that operated for the entire year. Of this total, 1,378 firms had employment of 999 or fewer employees, and 19 firms had employment of 1,000 employees or more. Thus, we estimate that the majority of wireless firms are small.

53. The Commission has determined that there are approximately 241,237 licensees in the Wireless Radio Services affected by this NPRM, as of October 1, 2010; the Commission does not know how many licensees in these bands are small entities, as the Commission does not collect that information for these types of entities. Thus, the Commission assumes, for purposes of this IRFA, that all prospective licensees are small entities as that term is defined by the SBA or by our proposed small business definitions for these bands.

54. Radio and Television Broadcasting and Wireless Communications Equipment Manufacturing. The Census Bureau defines this category as follows: “This industry comprises establishments primarily engaged in manufacturing radio and television broadcast and wireless communications equipment. Examples of products made by these establishments are: transmitting and receiving antennas, cable television equipment, GPS equipment, pagers, cellular phones, mobile communications equipment, and radio and television studio and broadcasting equipment.” The SBA has developed a small business size standard for firms in this category, which is: all such firms having 750 or fewer employees. According to Census Bureau data for 2002, there were a total of 1,041 establishments in this category that operated for the entire year. Of this total, 1,010 had employment under 500, and an additional 13 had employment of 500 to 999. Thus, under this size standard, the majority of firms can be considered small.

Description of Projected Reporting, Recordkeeping, and Other Compliance Requirements

55. In the NPRM, the Commission seeks comment on rules and policies that will broaden the availability and use of signal boosters to enhance wireless coverage for consumers, particularly in rural and underserved areas, while ensuring that boosters do not adversely impact wireless networks. The NPRM proposes to authorize individuals to use fixed and mobile consumer signal boosters by rule under part 95.

56. Under the Commission's proposal, all consumer signal boosters must comply with technical and operational requirements aimed at preventing interference to wireless networks, including: complying with technical parameters (e.g., power and unwanted emission limits) for the applicable spectrum band as well as RF exposure requirements for the type of device; automatically self-monitoring operations and shutting down if not in compliance with our technical rules; and for mobile boosters, powering down, or shutting down, automatically when a device is not needed, such as when the device approaches the base station with which it is communicating. The NPRM also proposes to require manufacturers to market and label consumer signal boosters in a way that provides consumers with clear information specifying the legal use of the device.

57. In order to facilitate the near-term availability of new, compliant consumer signal boosters, the Commission proposes to require applications for equipment authorization to demonstrate compliance with the new rules within 30 days of their effective date. Further, the Commission proposes to require that devices marketed or sold in the United States comply with the new rules within 6 months of their effective date.

58. In addition, under the Commission's proposal, operators of consumer signal boosters would be required to immediately cease operations upon notification by a licensee or the Commission that the device causes harmful interference to wireless network operations. Further, operators of boosters operated at a fixed location, such as in a building, tunnel or garage, would be required to coordinate frequency selection and power levels with the applicable wireless carrier(s) prior to operation.

59. With respect to part 90 PLMR, non-consumer, signal boosters operated by licensees, the NPRM proposes revisions to the technical and operational requirements aimed at preventing interference. Specifically, the Commission proposes to retain the Class A (narrowband) and Class B (wideband) regulatory distinctions and permit private land mobile fixed (Class A and B) and mobile (Class A only) devices. In addition, the NPRM proposes to make clear that Class B devices must be limited to confined areas such as buildings, tunnels, parking structures, etc., but permits use of external antennas to communicate with base stations.

Steps Taken To Minimize Significant Economic Impact on Small Entities, and Significant Alternatives Considered

60. The RFA requires an agency to describe any significant, specifically small business, alternatives that it has considered in reaching its proposed approach, which may include the following four alternatives (among others): “(1) The establishment of differing compliance or reporting requirements or timetables that take into account the resources available to small entities; (2) the clarification, consolidation, or simplification of compliance and reporting requirements under the rule for such small entities; (3) the use of performance, rather than design standards; and (4) an exemption from coverage of the rule, or any part thereof, for small entities.”

61. The NPRM specifically invites comments on a range of potential safeguards for signal boosters and invites interested parties to suggest alternative proposals. At this time, the Commission has not excluded any alternative proposal concerning potential signal booster safeguards from its consideration, but it would do so in this proceeding if the record indicates that a particular proposal would have a significant and unjustifiable adverse economic impact on small entities.

62. In the NPRM, the Commission also discusses possible registration requirements with a national signal booster clearinghouse to facilitate rapid resolution of interference (in the event harmful interference occurs notwithstanding the Commission's proposed safeguards) and ease coordination burdens. However, the Commission will not consider any alternative that would have a significant and unjustifiable adverse economic impact on small entities.

63. The Commission solicits alternative proposals, especially those that would not incur significant and unjustifiable adverse impacts on small entities.

Federal Rules That May Duplicate, Overlap, or Conflict With the Proposed Rule

None.

IV. Ordering Clauses

65. Pursuant to sections 4(i), 4(j), 301, 303(r), and 307 of the Communications Act of 1934, 47 U.S.C. 154(i), 154(j), 301, 303(r), 307 that this NPRM is hereby adopted.

66. Pursuant to sections 4(i), 4(j), 301, and 303(r) of the Communications Act of 1934, as amended, 47 U.S.C. 154(i), 154(j), 301 , 303(r) and § 1.2 of the Commission's rules, 47 CFR 1.2, the Petition for Declaratory Ruling filed on September 25, 2008, by Jack Daniel, DBA Jack Daniel Company is denied.

67. Pursuant to sections 4(i), 4(j), and 303(r) of the Communications Act of 1934, as amended, 47 U.S.C. 154(i), 154(j), 303(r), and § 1.407 of the Commission's rules, 47 CFR 1.407, that the Petitions for Rulemaking filed by Bird Technologies Group on August 18, 2005, by The DAS Forum (A Membership Section of PCIA—The Wireless Infrastructure Association) on October 23, 2009, and by Wilson Electronics, Inc. on November 3, 2009, are granted to the extent provided herein, and otherwise are denied.

68. The Commission's Consumer & Governmental Affairs Bureau, Reference Information Center, shall send a copy of this NPRM, including the Initial Regulatory Flexibility Analysis, to the Chief Counsel for Advocacy of the Small Business Administration.

List of Subjects

47 CFR Part 1

Administrative practice and procedure, Communications common carriers, Radio, Reporting and recordkeeping requirements, Telecommunications.

47 CFR Part 2

Communications common carriers, Communications equipment, Imports, Radio, Reporting and recordkeeping requirements, Telecommunications.

47 CFR Part 22

Communications common carriers, Communications equipment, Radio, Reporting and recordkeeping requirements, Rural areas.

47 CFR Parts 24 and 27

Administrative practice and procedure, Communications common carriers, Communications equipment, Radio, Reporting and recordkeeping requirements, Telecommunications.

47 CFR Parts 90 and 95

Administrative practice and procedure, Business and industry, Common carriers, Communications equipment, Emergency medical services, Radio, Reporting and recordkeeping requirements.

Federal Communications Commission.
Bulah Wheeler,
Deputy Manager.

For the reasons discussed in the preamble, the Federal Communications Commission proposes to amend 47 CFR parts 1, 2, 22, 24, 27, 90 and 95 of Title 47 of the Code of Federal Regulations as follows:

PART 1—PRACTICE AND PROCEDURE

1. The authority citation for part 1 continues to read as follows:

Authority: 15 U.S.C. 79 et seq.; 47 U.S.C. 151, 154(i), 154(j), 155, 157, 225, 303(r), and 309.

2. Amend § 1.1307 by adding a new entry to Table 1 “Signal Booster Radio Service (part 95)” below existing entry “Private Land Mobile Radio Services Specialized Mobile Radio (subpart S of part 90)”, and by revising paragraph (b)(2) to read as follows:

§ 1.1307 Actions that may have a significant environmental effect, for which Environmental Assessments (EAs) must be prepared.

* * * * *

(b) * * *

(1) * * *

Table 1—Transmitters, Facilities and Operations Subject to Routine Environmental Evaluation
Service (title 47 CFR rule part) | Evaluation required if:
* * * * * * *
| In building radiation system where antenna(s) mounted < 2.5 m above the floor and total power of all channels > 60 W ERP (100 W EIRP)
Signal Booster Radio Service (part 95)
| The Signal Booster Radio Service provisions in part 95 shall apply only if a label is affixed to the transmitting antenna that:
| (1) provides adequate notice regarding potential radiofrequency safety hazards, e.g., information regarding the safe minimum separation distance required between users and transmitting antennas; and
| (2) references the applicable FCC-adopted limits for radiofrequency exposure specified in § 1.1310.
* * * * * * *

(2) Mobile and portable transmitting devices that operate in the Cellular Radiotelephone Service, the Personal Communications Services (PCS), the Satellite Communications Services, the Wireless Communications Service, the Maritime Services (ship earth stations only), the Specialized Mobile Radio Service and the 3650 MHz Wireless Broadband Service, authorized under subpart H of part 22, parts 24, 25, 27, 80, 90, and 95 of this chapter, are subject to routine environmental evaluation for RF exposure prior to equipment authorization or use, as specified in §§ 2.1091 and 2.1093 of this chapter. In addition, mobile transmitting devices that operate in the Signal Booster Radio Service authorized under part 95 of this chapter, are subject to routine environmental evaluation for RF exposure prior to equipment authorization or use, as specified in § 2.1091 of this chapter. Unlicensed PCS, unlicensed NII and millimeter wave devices are also subject to routine environmental evaluation for RF exposure prior to equipment authorization or use, as specified in §§ 15.253(f), 15.255(g), 15.319(i), and 15.407(f) of this chapter. Portable transmitting equipment for use in the Wireless Medical Telemetry Service (WMTS) is subject to routine environment evaluation as specified in §§ 2.1093 and 5.1125 of this chapter. Equipment authorized for use in the Medical Device Radiocommunication Service (MedRadio) as a medical implant or body-worn transmitter (as defined in Appendix 1 to Subpart E of part 95 of this chapter) is subject to routine environmental evaluation for RF exposure prior to equipment authorization, as specified in § 2.1093 of this chapter by finite difference time domain computational modeling or laboratory measurement techniques. Where a showing is based on computational modeling, the Commission retains the discretion to request that specific absorption rate measurement data be submitted. All other mobile, portable, and unlicensed transmitting devices are categorically excluded from routine environmental evaluation for RF exposure under §§ 2.1091, 2.1093 of this chapter except as specified in paragraphs (c) and (d) of this section.

* * * * *

PART 2—FREQUENCY ALLOCATIONS AND RADIO TREATY MATTERS; GENERAL RULES AND REGULATIONS

3. The authority citation for part 2 continues to read as follows:

Authority: 47 U.S.C. 154, 302a, 303, and 336, unless otherwise noted.

4. Section 2.1091 is amended by revising paragraph (c) to read as follows:

§ 2.1091 Radiofrequency radiation exposure evaluation: mobile devices.

* * * * *

(c) Mobile devices that operate in the Cellular Radiotelephone Service, the Personal Communications Services, the Satellite Communications Services, the Wireless Communications Service, the Maritime Services, the Specialized Mobile Radio Service, and the Signal Booster Radio Service authorized under Subpart H of part 22, parts 24, 25, 27, 80 (ship earth stations devices only), 90 and 95 of this chapter are subject to routine environmental evaluation for RF exposure prior to equipment authorization or use if they operate at frequencies of 1.5 GHz or below and their effective radiated power (ERP) is 1.5 watts or more, or if they operate at frequencies above 1.5 GHz and their ERP is 3 watts or more. Unlicensed personal communications service devices, unlicensed milllimeter wave devices and unlicensed NII devices authorized under §§ 15.253, 15.255, and 15.257, and subparts D and E of part 15 of this chapter are also subject to routine environmental evaluation for RF exposure prior to equipment authorization or use if their ERP is 3 watts or more or if they meet the definition of a portable device as specified in § 2.1093(b) requiring evaluation under the provisions of that section. All other mobile and unlicensed transmitting devices are categorically excluded from routine environmental evaluation for RF exposure prior to equipment authorization or use, except as specified in §§ 1.1307(c) and 1.1307(d) of this chapter. Applications for equipment authorization of mobile and unlicensed transmitting devices subject to routine environmental evaluation must contain a statement confirming compliance with the limits specified in paragraph (d) of this section as part of their application. Technical information showing the basis for this statement must be submitted to the Commission upon request.

* * * * *

PART 22—PUBLIC MOBILE SERVICES

5. The authority citation for part 22 continues to read as follows:

Authority: 47 U.S.C. 154, 222, 303, 309, and 332.

6. Section 22.9 is added under Subpart A to read as follows:

§ 22.9 Operation of certificated signal boosters.

Individuals and non-individuals may operate certificated signal boosters on frequencies regulated under this part provided that such operation complies with all applicable rules under this part and all applicable rules under Subpart M, part 95 of this chapter (Signal Booster Radio Service). Failure to comply with all applicable rules voids the authority to operate a signal booster.

PART 24—PERSONAL COMMUNICATION SERVICES

7. The authority citation for part 24 continues to read as follows:

Authority: 47 U.S.C. 154, 301, 302, 303, 309, and 332.

8. Section § 24.9 is added under Subpart A read as follows:

§ 24.9 Operation of certificated signal boosters.

Individuals and non-individuals may operate certificated signal boosters on frequencies regulated under this part provided that such operation complies with all applicable rules under this part and all applicable rules under Subpart M, part 95 of this chapter (Signal Booster Radio Service). Failure to comply with all applicable rules voids the authority to operate a signal booster.

PART 27—MISCELLANEOUS WIRELESS COMMUNICATION SERVICES

9. The authority citation for part 27 continues to read as follows:

Authority: 47 U.S.C. 154, 301, 302, 303, 307, 309, 332, 336, and 337 unless otherwise noted.

10. Section 27.9 is added under Subpart A to read as follows:

§ 27.9 Operation of certificated signal boosters.

Individuals and non-individuals may operate certificated signal boosters on frequencies regulated under this part provided that such operation complies with all applicable rules under this part and all applicable rules under Subpart M, part 95 of this chapter (Signal Booster Radio Service). Failure to comply with all applicable rules voids the authority to operate a signal booster.

PART 90—PRIVATE LAND MOBILE RADIO SERVICES

11. The authority citation for part 90 continues to read as follows:

Authority: Sections 4(i), 11, 303(g), 303(r), and 332(c)(7) of the Communications Act of 1934, as amended, 47 U.S.C. 154(i), 161, 303(g), 303(r), 332(c)(7).

12. Amend § 90.7 by adding a definition for “Signal amplifier” and by revising the definition of “Signal booster” to read as follows:

§ 90.7 Definitions.

* * * * *

Signal amplifier. A device that is installed between a radio transmitter and an external antenna, which amplifies the outgoing signal.

Signal booster. A device that automatically receives, amplifies, and retransmits on a bi-or unidirectional basis, the signals received from base, fixed, mobile, or portable stations, with no change in frequency or authorized bandwidth. Signal boosters may be either narrowband (Class A) or wideband (Class B). Class A narrowband signal boosters may be deployed at fixed locations or as mobile devices, and amplify signals only on those channels authorized to the licensee. Class B wideband signal boosters are restricted to fixed deployments in enclosed areas such as buildings, underground parking garages, and transit tunnels, and amplify all signals across an entire frequency band.

* * * * *

13. Section 90.219 is revised to read as follows:

§ 90.219 Use of signal boosters.

Licensees authorized to operate radio systems in the frequency bands above 150 MHz may operate signal boosters subject to the following conditions:

(a) General requirements. Signal boosters may only retransmit an amplified signal on the exact frequency (or frequencies, if applicable) of the originating base, fixed, mobile, or portable station. Signal boosters may only be used to fill in weak signal areas within an authorized license area and cannot extend the system's signal coverage area.

(b) Class A requirements. Class A (narrowband) signal boosters may be deployed at fixed locations or as mobile devices, and may amplify signals only on those channels authorized to the licensee. Class A boosters must include automatic level control circuitry. Class A boosters must not exceed an average effective radiated power (ERP) of 5 watts. Class A boosters must meet the out-of-band emission limits of § 90.210 for each narrowband channel that the booster is designed to amplify.

(c) Class B requirements. Class B (wideband) signal boosters are restricted to fixed deployments in enclosed areas such as buildings, underground parking garages, and transit tunnels, and amplify all signals across an entire frequency band. Class B boosters must not exceed an average ERP of 5 watts for each authorized channel that the booster is designed to amplify. Class B boosters must meet the emission limits of § 90.210 for frequencies outside of the booster's designed passband.

(d) Operating authority. Licensees are authorized to operate certificated signal boosters without separate authorization from the Commission. Individuals and non-individuals may operate certificated signal boosters on Part 90 frequencies that are used for the provision of subscriber-based services subject to the conditions enumerated in subpart M, part 95 of this chapter. Only certificated equipment may be operated, and the operator must comply with all applicable rules.

(e) Interference remediation. Licensees and other operators of signal boosters must correct any harmful interference that the equipment may cause to other systems. Normal co-channel transmissions will not be considered harmful interference. Interference resolution is subject to the conditions in § 90.173(b).

PART 95—PERSONAL RADIO SERVICES

14. The authority citation for part 95 is revised to read as follows:

Authority: Secs. 4, 303, 48 Stat. 1066, 1082, as amended; 47 U.S.C. 154, 303.

15. Section 95.401 is amended by adding paragraph (h) to read as follows:

§ 95.401 (CB Rule 1) What are the Citizens Band Radio Services?

* * * * *

(h) Signal Booster Radio Service—the use of bi-or unidirectional radio frequency amplifiers by licensees, individuals, and non-individuals for the purpose of enhancing their wireless radio service. The rules for this service are in subpart M of this part.

16. Part 95 is amended by adding Subpart M to read as follows:

Subpart M—Signal Booster Radio Service
95.1601 Basis and purpose.
95.1603 Scope.
95.1605 Definitions.
95.1611 Authorization to operate certificated signal boosters.
95.1613 Operator responsibility.
95.1615 Operation on secondary, non-interfering basis.
95.1617 Authorized locations.
95.1619 Fixed signal booster coordination.
95.1621 Frequency bands.
95.1623 Interference safeguards.
95.1625 Labeling requirements.
95.1627 RF exposure.

Subpart M—Signal Booster Radio Service

§ 95.1601 Basis and purpose.

(a) Basis. The rules in this Subpart are issued pursuant to the Communications Act of 1934, as amended, 47 U.S.C. 151 et seq.

(b) Purpose. The purpose of the rules in this subpart is to establish the requirements and conditions under which signal boosters may be certificated, marketed, sold, and operated.

§ 95.1603 Scope.

This subpart contains rules governing signal boosters used to enhance wireless radio service on frequencies used for the provision of subscriber-based services.

§ 95.1605 Definitions.

The following terms and definitions apply to the rules in this subpart.

Signal booster. A device that automatically receives, amplifies, and retransmits on a bi-or unidirectional basis, the signals received from base, fixed, mobile, or portable stations, with no change in frequency or authorized bandwidth.

Uplink. The portion of a signal booster that receives signals from a wireless device and amplifies and transmits them to a wireless system.

§ 95.1611 Authorization to operate certificated signal boosters.

(a) Section 95.401(h) and this part authorize individuals and non-individuals to operate certificated signal boosters without individual licenses. Any individual or non-individual, other than a representative of a foreign government, may operate a certificated signal booster pursuant to this subpart and subject to the specific requirements of § 95.1623.

(b) A signal booster can only be certificated and operated if it complies with all applicable rules in this subpart and all applicable technical rules for the frequency band(s) of operation including, but not limited to: § 22.355, Public Mobile Services, frequency tolerance; § 22.913, Cellular Radiotelephone Service effective radiated power limits; § 22.917, Cellular Radiotelephone Service, emission limitations for cellular equipment; § 24.232, Broadband Personal Communications Service, power and antenna height limits; § 24.238, Broadband Personal Communications Service, emission limitations for Broadband PCS equipment; § 27.50, Miscellaneous Wireless Communications Services, power and antenna height limits; § 27.53, Miscellaneous Wireless Communications Services, emission limits; § 90.205, Private Land Mobile Radio Services, power and antenna height limits; § 90.210, Private Land Mobile Radio Services, emission masks; § 90.219, Private Land Mobile Radio Services, use of signal boosters; and § 90.247, Private Land Mobile Radio Services, mobile repeater stations.

(c) Signal boosters operated in portable RF exposure conditions as described in § 2.1093 that are designed to be used so that the radiating structure(s) is/are within 20 centimeters of the user or other persons are prohibited.

§ 95.1613 Operator responsibility.

(a) The operator of a signal booster must comply with all applicable rules in this part and any other applicable part under this chapter. The operator is the person or persons with control over the functioning of the signal booster, or the person or persons with the ability to deactivate it in the event of technical malfunctioning or harmful interference to a primary radio service.

(b) Failure to comply with all applicable rules in this subpart and all applicable technical rules for the frequency band(s) of operation voids the authority to operate a signal booster.

§ 95.1615 Operation on a secondary, non-interfering basis.

Operation of signal boosters under this subpart is on a secondary, non-interference basis to primary services licensed for the frequency bands on which they transmit, and to primary services licensed for the adjacent frequency bands that might be affected by their transmissions.

(a) The operation of signal boosters must not cause harmful interference to the communications of any primary licensed service.

(b) If an FCC representative directs the operator to deactivate the signal booster, the operator must deactivate the booster immediately, or as soon as practicable, if immediate deactivation is not possible.

§ 95.1617 Authorized locations.

Unless otherwise specified in this chapter, signal boosters may be operated in any location where CB stations may be operated under § 95.405.

§ 95.1619 Fixed signal booster coordination.

Prior to commencing operation of a signal booster at a fixed location, an operator must also coordinate frequency selection and power levels with each licensee or lessee authorized to operate on the frequencies in the registered area of operation.

§ 95.1621 Frequency bands.

Signal boosters may be operated on frequencies used for the provision of subscriber-based services under parts 22, 24, 27, and 90 of this chapter.

§ 95.1623 Interference safeguards.

Signal boosters must include features to prevent harmful interference including, at a minimum, those enumerated in this section. These features may not be deactivated by the operator and must be enabled and operating at all times the signal booster is in use.

(a) Self-monitoring. Signal boosters must automatically self-monitor their operation to ensure compliance with all applicable technical parameters and shut down automatically within 10 seconds (or less) if their operation exceeds any of those parameters. A signal booster must remain off for a minimum of 60 seconds before restarting. If after 5 restarts, a device is still not operating in compliance with all applicable technical parameters, it must shut off and not resume operation until manually reset.

(b) Feedback or oscillation. Signal boosters must be able to detect feedback or oscillation (such as may result from insufficient isolation between the antennas) and deactivate the uplink transmitter within 10 seconds of detection. After such deactivation, the booster must not resume operation until manually reset.

(c) Mobile signal boosters. Signal boosters operated in a mobile environment must automatically power down or cease amplification as they approach the base station with which they are communicating.

§ 95.1625 Labeling requirements.

(a) Signal booster manufacturers, distributors, and retailers must ensure that all signal boosters marketed on or after [insert date six months after the effective date of this rule] include the following advisories in 12-point or greater typeface:

(1) In any marketing materials,

(2) In the owner's manual,

(3) On the outside packaging of the device, and

(4) On a label affixed to the device:

WARNING. Operation of this device is on a secondary non-interference basis and must cease immediately if requested by the FCC or a licensed wireless service provider.

(b) In addition to the warning in paragraph (a) of this section, signal boosters intended for fixed operation must include the following advisory in 12-point or greater typeface:

(1) In any marketing materials,

(2) In the owner's manual,

(3) On the outside packaging of the device, and

(4) On a label affixed to the device:

WARNING. Operation of this device must be coordinated with, and information on channel selection and operating power must be obtained from, the applicable spectrum licensees authorized in the area of deployment. Licensee information is available at www.fcc.gov/signalboosters.

§ 95.1627 RF exposure.

(a) Signal boosters are subject to the radio frequency radiation exposure requirements specified in §§ 1.1307(b) and 2.1091 of this chapter. Signal boosters operating in fixed and mobile exposure conditions are subject to routine environmental evaluation pursuant to the above sections. Applications for equipment authorization of signal boosters with respect to §§ 1.1307(b) and 2.1091 must contain a statement confirming compliance with these requirements for both fundamental emissions and unwanted emissions; and technical information showing the basis for this statement must be submitted to the Commission upon request.

(b) Signal boosters operated in portable RF exposure conditions as described in § 2.1093 that are designed to be used so that the radiating structure(s) is/are within 20 centimeters of the user or other persons are prohibited.

[FR Doc. 2011-11135 Filed 5-9-11; 8:45 am]

BILLING CODE 6712-01-P